DEPARTMENT OF TRANSPORTATION

Federal Aviation Administration

[Docket No. 2016-9477]

Airport Privatization Pilot Program: Preliminary Application for Westchester County Airport, White Plains, NY

AGENCY: Federal Aviation Administration (FAA), DOT.

ACTION: Notice of receipt and acceptance for review.

SUMMARY: The FAA has completed its review of the Westchester County Airport (HPN) preliminary application for participation in the Airport Privatization Pilot Program. The preliminary application is accepted for review, with a filing date of November 4, 2016. The County of Westchester, the airport sponsor, may select a private operator, negotiate an agreement and submit a final application to the FAA for exemption under the pilot program.

DATES: Comments must be received February 13, 2017.

FOR FURTHER INFORMATION CONTACT: Kevin C. Willis, Director, Airport Compliance and Management Analysis, ACO-1, Federal Aviation Administration, 800 Independence Avenue SW., Washington, DC 20591, telephone (202) 267-3085

SUPPLEMENTARY INFORMATION:

Background

Title 49 U.S.C. 47134 establishes an airport privatization pilot program and authorizes the Department of Transportation to grant exemptions from certain Federal statutory and regulatory requirements for up to five airport privatization projects. The application procedures require the FAA to publish a notice in the Federal Register after review of a preliminary application. The FAA must publish a notice of receipt of the final application in the Federal Register for public review and comment for a sixty-day period. The HPN preliminary application is available for public review at http://www.regulations.gov. The docket number is FAA Docket NO. 2016-9477.

Title 49 U.S.C 47134 authorizes the Secretary of Transportation, and through delegation, the FAA Administrator, to exempt a sponsor of a public-use airport that has received Federal assistance, from certain Federal requirements in connection with the privatization of the airport by sale or lease to a private party. Specifically, the Administrator may exempt the sponsor from all or part of the requirements to use airport revenues for airport-related purposes, to pay back a portion of Federal grants upon the sale or lease of an airport, and to return airport property deeded by the Federal Government upon transfer of the airport. The Administrator is also authorized to exempt the private purchaser or lessee from the requirement to use all airport revenues for airport-related purposes, to the extent necessary to permit the purchaser or lessee to earn compensation from the operations of the airport.

On September 16, 1997, the FAA issued a Notice of procedures to be used in applications for exemption under the Airport Privatization Pilot Program (62 FR 48693). A request for participation in the pilot program must be initiated by the filing of either a preliminary or final application for exemption with the FAA.

The County of Westchester submitted a preliminary application to the FAA for Westchester County Airport on November 4, 2016; the preliminary application is accepted for review, with a filing date of November 4, 2016. The County may select a private operator, negotiate an agreement and submit a final application to the FAA for exemption.

If the FAA accepts the final application for review, the application will be made available for public review and comment for a 60-day period.

Issued in Washington, DC, on December 6, 2016.
Kevin C. Willis,
Director, Office of Airport Compliance and Management Analysis.

[FR Doc. 2016-29772 Filed 12-12-16; 8:45 am]

BILLING CODE 4910-13-P